DEPARTMENT OF COMMERCE

Foreign-Trade Zones Board

Docket 47-2006

Foreign-Trade Zone 15 - Kansas City, Missouri, Area, Application for Expansion

An application has been submitted to the Foreign-Trade Zones Board (the Board) by the Greater Kansas City Foreign Trade Zone, Inc., grantee of FTZ 15, requesting authority to expand its zone in the Kansas City, Missouri, area, adjacent to the Kansas City CBP port of entry. The application was submitted pursuant to the provisions of the Foreign-Trade Zones Act, as amended (19 U.S.C. 81a-81u), and the regulations of the Board (15 CFR Part 400). It was formally filed on December 14, 2006.

FTZ 15 was approved on March 23, 1973 (Board Order 93, 38 FR 8622, 4/4/73) and expanded on October 25, 1974 (Board Order 102, 39 FR 39487, 11/7/74); on February 28, 1996 (Board Order 804, 61 FR 9676, 3/11/96); on May 31, 1996 (Board Order 824, 61 FR 29529, 6/11/96); on December 8, 1997 (Board Order 934, 62 FR 65654, 12/15/97); on October 19, 1998 (Board Order 1004, 63 FR 59761, 11/5/98); on January 8, 1999 (Board Order 1016, 64 FR 3064, 1/20/99); on June 17, 1999 (Board Order 1042, 64 FR 34188, 6/25/99); on April 15, 2002 (Board Order 1226, 67 FR 20087, 4/24/02); and, on April 20, 2005 (Board Order 1388, 70 FR 22630, 5/2/05).

The zone project to date has consisted of the following sites in the Kansas City area: Site 1 (5.7 acres, 250,000 sq. ft.) -- Midland International Corporation warehouse facility located at 1650 North Topping St., Kansas City; Site 1A (2.76 acres) -- located at 1226 Topping Drive, Kansas City; Site 2 (64.3 acres, 2.8 million sq. ft.) -- surface/underground warehouse complex located at 8300 NE Underground Drive, Kansas City (includes a site (75,000 sq. ft.) located at 3600 Great Midwest Drive operated by Terminal Consolidation Company); Site 3 (9,615 acres) -- located within the 10,000-acre Kansas City International Airport facility; Site 3A (1 acre, 33,541 sq. ft.) -- located at 10201 N. Everton, Kansas City; Site 3B (3 parcels, 384 acres total) -- Kansas City: Parcel 1 (68 acres) -- within the 330-acre Air World Center Business Park, located at Interstate 29 and 112th Street; Parcel 2 (155 acres) -- Congress Corporate Center Industrial Park, located at the northwest corner of 112th Street and North Congress; and, Parcel 3 (161 acres) -- city-owned Harley Davidson Site; Site 4 (416 acres) -- Carefree Industrial Park, 1600 NM-291 Highway, Sugar Creek/ Independence; Site 5 (1,000 acres, 5.75 million sq. ft.) -- CARMAR Underground Business Park/CARMAR Industrial Park, No. 1 Civil War Road, Carthage; Site 6 (28,000 sq. ft., 11 acres) -- Laser Light Technologies, Inc., facility located within the Hermann Industrial Park, 5 Danuser Drive, Hermann (expired 12/31/05); Site 7 (1,750 acres) Richards-Gebaur Memorial Airport/Industrial Park complex, 1540 Maxwell, Kansas City; Site 8 (13.57 acres) located at Ryan Road and Brunswick, Chillicothe; Site 8T (6 acres, 85,000 sq. ft.) - temporary site located at 411 S. Brunswick Road, Chillicothe (expires 12/1/08); and, Site 9 (50 acres, 2 parcels) St. Joseph: Parcel 1 (200,000 sq. ft., 25 acres) located at 2307 Alabama Street and Parcel 2 (169,000 sq. ft., 25 acres) located at 2326 Lower Lake Road.

The applicant is requesting authority to include additional sites in the Kansas City, Missouri area: Expand Site 8 to include an additional parcel located at 411 South Brunswick Road, Chillicothe (this will include Site 8T on a permanent basis); Proposed Site 10 (72.31 acres) - warehouse located at 8201 E. 23rd Street, Kansas City; Proposed Site 11 (49 acres, 3 parcels) located at an industrial park in Grandview: Parcel A (18 acres)-tract of undeveloped land, 13700 S. US 71 Hwy; Parcel B (9 acres)-tract of undeveloped land, 5610 East 139th Street; Parcel C (22 acres)-warehouse located at 13500 15th Street; and, Proposed Site 12 (125 acres)- Botts warehouse located at 14100 Botts Road, Grandview.

The applicant is also requesting that six acres at Site 8 be restored to zone status. (A minor modification was approved in November 13, 2006 (A(27f)-62-2006) removing six acres from Site 8 to establish the temporary site (Site 8T).) The applicant is further requesting to remove 183 acres from Site 7 due to changed circumstances (new total - 1,567 acres). No specific manufacturing requests are being made at this time. Such requests would be made to the Board on a case-by-case basis.In accordance with the Board's regulations, a member of the FTZ Staff has been designated examiner to investigate the application and report to the Board.

Public comment on the application is invited from interested parties. Submissions (original and 3 copies) shall be addressed to the Board's Executive Secretary at the address below. The closing period for their receipt is February 26, 2007. Rebuttal comments in response to material submitted during the foregoing period may be submitted during the subsequent 15-day period (to March 12, 2007.

A copy of the application and accompanying exhibits will be available for public inspection at each of the following locations: U.S. Department of Commerce Export Assistance Center, Suite 650, 2345 Grand Boulevard, Kansas City, Missouri 64108, and, Office of the Executive Secretary, Foreign-Trade Zones Board, Room 2814B, 1401 Constitution Avenue, NW, Washington, DC 20230.

Dated: December 14, 2006.
Pierre V. Duy,
Acting Executive Secretary.

[FR Doc. E6-22079 Filed 12-22-06; 8:45 am]

BILLING CODE 3510-DS-S